DEPARTMENT OF ENERGY

Federal Energy Regulatory Commission

[Docket No. RP03-221-001]

High Island Offshore System, L.L.C.; Notice of Compliance Filing

February 24, 2003.

Take notice that on February 19, 2003, High Island Offshore System, L.L.C. (HIOS) tendered for filing an explanation concerning the revised tariff sheets filed in this docket on December 31, 2002, as required by the Commission's Order of January 30, 2003 in this docket.

HIOS states that such revised tariff sheets were primarily the result of the elimination of Rate Schedules T and I, as well as necessary ministerial and conforming changes related to the elimination of those schedules.

HIOS states that a full copy of its filing is being served on all jurisdictional customers, applicable state commissions and interested parties that have requested service.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 3, 2003.

Magalie R. Salas,
Secretary.

[FR Doc. 03-4847 Filed 2-28-03; 8:45 am]

BILLING CODE 6717-01-P